DEPARTMENT OF HEALTH AND HUMAN SERVICES

Centers for Disease Control and Prevention

[60Day-00-52]

Proposed Data Collections Submitted for Public Comment and Recommendations

In compliance with the requirement of Section 3506(c)(2)(A) of the Paperwork Reduction Act of 1995, the Centers for Disease Control and Prevention (CDC) is providing an opportunity for public comment on proposed data collection projects. To request more information on the proposed projects or to obtain a copy of the data collection plans and instruments, call the CDC Assistant Reports Clearance Officer at 404-639-7090.

Comments are invited on: (i) Whether the proposed collection of information is necessary for the proper performance of the functions of the CDC, including whether the information shall have a practical utility; (ii) the accuracy of the agency's estimate of the burden of the proposed collection of information; (iii) ways to enhance the quality, utility, and clarity of the information to be collected; and (iv) ways to minimize the burden of the collection of information on respondents, including the use of automated collection techniques or other forms of information technology. Send comments to Anne O'Connor, CDC Assistant Reports Clearance Officer, 1600 Clifton Road, MS-D24, Atlanta, Georgia 30333. Written comments should be received within 60 days of this notice.

Proposed Project

Survey to Determine the National Capacity to Provide Colorectal Cancer Screening and Follow-up Examinations—New—The National Center for Chronic Disease Prevention and Health Promotion, Division of Cancer Prevention and Control, proposes to conduct a study to provide a national assessment of the current capacity to conduct colorectal cancer (CRC) screening and follow-up examinations for average risk persons aged 50 and older. Colorectal cancer is the second leading cause of cancer-related deaths in the United States. While there is strong scientific evidence that screening for CRC reduces incidence and mortality from this disease, rates of use of screening tests are currently low. Efforts to promote widespread screening for CRC are intensifying among local, state, and federal health agencies and professional organizations nationwide. However, limited information is available regarding the number of health care personnel currently trained and available to perform screening and follow-up examinations.

The proposed study will be conducted through the implementation of a survey which will be mailed to a random sample of 1,800 providers known to possess flexible sigmoidoscopes and colonoscopes, based upon lists provided by major endoscopic equipment manufacturers. The sampling frame will be designed to include providers from all regions of the country and all physician specialists who may be screening for CRC. The survey will provide information on the types of health care providers who are performing CRC screening and follow-up examinations, the equipment currently being used for screening and follow-up examinations, and current reimbursement rates for these tests. The results of the analysis will be used to (1) identify deficits in the medical infrastructure, (2) guide the development of training initiatives and educational programs for health care providers, and (3) provide critical baseline information for local, state and federal policy makers for the planning of national initiatives to increase colorectal cancer screening. There is no cost to respondents.

Respondents | Number of respondents | Number of responses/ respondent | Average burden of response (in hrs.) | Total burden (in hrs.)
Health Care Providers | 1800 | 1 D20/60 | 600
Office Managers | 1800 | 1 | 20/60 | 600
Totals |  |  |  | 1200

Dated: September 27, 2000.
Nancy Cheal,
Acting Associate Director for Policy, Planning and Evaluation, Centers for Disease Control and Prevention (CDC).

[FR Doc. 00-25321 Filed 10-2-00; 8:45 am]

BILLING CODE 4163-18-P